DEPARTMENT OF COMMERCE

Foreign-Trade Zones Board

[Order No. 1261]

Grant of Authority; Establishment of a Foreign-Trade Zone; Roswell, New Mexico

Pursuant to its authority under the Foreign-Trade Zones Act of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the City of Roswell, New Mexico (the Grantee), has made application to the Board (FTZ Docket 9-2002, filed 2/5/02), requesting the establishment of a foreign-trade zone in Roswell, New Mexico, at the Roswell Industrial Air Center, which was designated as a Customs user fee port facility on September 25, 2002;

Whereas, notice inviting public comment has been given in the Federal Register (67 FR 6679, 2/13/02); and,

Whereas, the Board adopts the findings and recommendations of the examiner's report, and finds that the requirements of the FTZ Act and the Board's regulations are satisfied, and that approval of the application is in the public interest;

Now, therefore, the Board hereby grants to the Grantee the privilege of establishing a foreign-trade zone, designated on the records of the Board as Foreign-Trade Zone No. 256, at the site described in the application, and subject to the Act and the Board's regulations, including Section 400.28.

Signed at Washington, DC, this 4th day of December 2002.
Foreign-Trade Zones Board.
Donald L. Evans,
Secretary of Commerce, Chairman and Executive Officer.

[FR Doc. 02-32264 Filed 12-23-02; 8:45 am]

BILLING CODE 3510-DS-P